DEPARTMENT OF ENERGY

Federal Energy Regulatory Commission

[Project No. 2894-013]

Flambeau Hydro, LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 2894-013.

c. Date filed: December 31, 2018.

d. Applicant: Flambeau Hydro, LLC.

e. Name of Project: Black Brook Hydroelectric Project.

f. Location: On the Apple River, in the township of Black Brook, Polk County, Wisconsin. There are no federal lands within the project boundary.

g. Filed Pursuant to: Federal Power Act 16 U.S.C. 791(a)-825(r).

h. Applicant Contact: Jason Kreuscher, Renewable World Energies, LLC, 100 South State St., P.O. Box 264, Neshkoro, WI 54960, (855) 994-9376 ext. 102.

i. FERC Contact: Michael Davis (202) 502-8339, Michael.Davis@ferc.gov.

j. Deadline for filing for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2894-013.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, and is ready for environmental analysis at this time.

l. The Black Brook Project consists of the following existing facilities: (1) A 131-foot-long by 32-foot-high concrete gravity dam with three 12-foot-high by 12-foot-wide radial gates, a 32.5-foot-wide by 23.6-foot-high overflow section with a 6-inch flashboard, a 315-foot-long by 12-foot-wide by 8.3-foot-high left embankment, and a 75-foot-long by 38.5-foot-wide by 31.2-foot-high right embankment; (2) a 10-foot-long by 3.17-foot-wide by 15-foot-high reinforced concrete intake structure containing two 7-foot-wide by 12-foot-high steel dewatering gates and two 65-degree inclined 16-foot-wide by 15-foot-high trash racks with a 1.5-inch clear-bar spacing; (3) a 34.7-foot by 25.3-foot cement block powerhouse with two generating units providing a total of 0.645 megawatt of installed capacity; (4) a 30-foot by 10-foot tailrace; (5) a 6-foot by 5.5-foot 13.2-kilovolt (kV) substation facility; (6) a 20-foot-long, 2,400-volt transmission line and a 1.25-mile-long 13.2 kV transmission line; and (7) appurtenant facilities. The project has a normal pool elevation of 1045.47 feet National Geodetic Vertical Datum with a surface area of about 98 acres and no usable storage capacity. The project generates about 7,336 megawatt-hours annually.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS”, “REPLY COMMENTS”, “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

p. Procedural schedule: The application will be processed according to the following schedule. Revisions to the schedule will be made as appropriate.

Commission issues Environmental Assessment May 2020

Comments on Environmental Assessment June 2020

Dated: September 30, 2019.
Kimberly D. Bose,
Secretary.

[FR Doc. 2019-21675 Filed 10-3-19; 8:45 am]

BILLING CODE 6717-01-P